DEPARTMENT OF COMMERCE

National Oceanic and Atmospheric Administration

[RTID 0648-XC474]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow commercial fishing vessels to fish outside fishery regulations in support of research conducted by the applicant. Regulations under the Magnuson-Stevens Fishery Conservation and Management Act require publication of this notification to provide interested parties the opportunity to comment on applications for proposed EFPs.

DATES: Comments must be received on or before November 4, 2022.

ADDRESSES: You may submit written comments by any of the following methods:

• Email: nmfs.gar.efp@noaa.gov. Include in the subject line “MREM 4.5-inch Mesh and Underutilized Species EFP.”

FOR FURTHER INFORMATION CONTACT: Samantha Tolken, Fishery Management Specialist, Samantha.Tolken@noaa.gov, 978-675-2176.

SUPPLEMENTARY INFORMATION: The applicant submitted a complete application for an EFP to conduct commercial fishing activities that the regulations would otherwise restrict. This EFP would exempt the participating vessels from the following Federal regulations:

Table 1—Requested Exemptions
Citation | Regulation | Need for exemption
50 CFR 648.80(a)(3)(i) | Gulf of Maine (GOM) Regulated Mesh Area Minimum Mesh Size and Gear Restrictions | Conduct exploratory fishing to test the use of 4.5-inch (11.4-cm) square mesh, intended to facilitate the catch of haddock and pollock, 4.5-inch (11.4-cm) diamond mesh to facilitate the catch of redfish and haddock, and 5.5-inch (14-cm) square mesh to facilitate the catch of haddock and pollock.
§ 648.80(a)(4)(i) | Georges Bank (GB) Regulated Mesh Area Minimum Size and Gear Restrictions | Conduct exploratory fishing to test the use of 4.5-inch (11.4-cm) square mesh, intended to facilitate the catch of haddock and pollock, 4.5-inch (11.4-cm) diamond mesh to facilitate the catch of redfish and haddock, and 5.5-inch (14-cm) square mesh to facilitate the catch of haddock and pollock.
§ 648.85(e)(1)(ii) | Redfish Exemption Program Exemption Area | Conduct exploratory fishing in the larger, fishing years 2015-2019 Redfish Sector Exemption Area.
§ 648.85(e)(1)(viii) | Redfish Exemption Program Catch Thresholds | Conduct exploratory fishing to test the use of 4.5-inch (11.4-cm) square mesh, intended to facilitate the catch of haddock and pollock, 4.5-inch (11.4-cm) diamond mesh to facilitate the catch of redfish and haddock, and 5.5-inch (14-cm) square mesh to facilitate the catch of haddock and pollock.

Table 2—Project Summary
Project title | Maximized Retention Electronic Monitoring 4.5-inch (11.4-cm) Mesh and Underutilized Species.
Applicant | Commercial Fisherman Michael Walsh and Northeast Sector Service Network, Inc. (NSSN).
Project objectives | Determine the gear configuration and mesh size that most effectively increases catch of underutilized healthy stocks (pollock, haddock, redfish) while minimizing catch of other stocks (white hake, cod, etc.), and evaluate if a second vessel and captain is capable of maintaining a similar catch composition of underutilized species while minimizing catch of other allocated species.
Application date | 3/2/2022.
Project period | 10/1/2022, or as soon as possible,—4/30/2023.
Project location | GOM and GB.
Number of vessels | 2.
Number of trips | Approximately 30.
Trip duration (days) | 7-10 total days per trip, with 5-8 fishing days per trip.
Total number of days | Approximately 300.
Gear type(s) | Bottom trawl.
Number of tows or sets | 6-9 tows per day; approximately 2,160 total tows.
Duration of tows or sets | 2-5 hours per tow; approximately 10,800 total hours.

Project Narrative

The subject application would allow up to two sector vessels participating in the maximized retention electronic monitoring (MREM) program additional exemptions from 50 CFR 648.80(a)(3)(i) and (a)(4)(i), and from § 648.85(e)(1)(i) and (e)(1)(viii), to conduct exploratory fishing using codends with 4.5-inch (11.4-cm) square mesh, intended to facilitate the catch of haddock and pollock, 4.5-inch (11.4-cm) diamond mesh to facilitate the catch of redfish and haddock, and 5.5-inch (14-cm) square mesh to facilitate the catch of haddock and pollock. Additionally, vessels would not be subject to the current universal Redfish Exemption Program Exemption Area at § 648.85(e)(1)(ii) and Redfish Exemption Program Catch Thresholds at § 648.85(e)(1)(viii).

The applicant requested to operate in the larger geographic area where the redfish exemption was permitted in fishing years 2015-2019 to test the feasibility of using alternative codend configurations to facilitate the catch of legal size pollock and haddock during trips targeting Acadian redfish. Unlike trips under the current redfish exemption, which is authorized in a smaller area during fishing year 2022, the intent of this EFP is to conduct exploratory fishing. The participation of a second vessel will evaluate if a different vessel and captain is capable of maintaining a similar catch composition of underutilized species, while minimizing catch of other allocated species. Exploratory fishing that indicates that the use of 4.5-inch (11.4-cm) mesh and larger is biologically sustainable, could inform a future program for a maximized-retention-based sector exemption and could also incentivize greater participation in an MREM program by high-volume vessels.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 17, 2022.
Jennifer M. Wallace,
Acting Director, Office of Sustainable Fisheries, National Marine Fisheries Service.

[FR Doc. 2022-22801 Filed 10-19-22; 8:45 am]

BILLING CODE 3510-22-P